ENVIRONMENTAL PROTECTION AGENCY

[FRL-7273-1]

EPA Science Advisory Board; Notification of Public Advisory Committee Meetings

Pursuant to the Federal Advisory Committee Act, Public Law 92-463, notice is hereby given of a meeting of the Radiation Advisory Committee (RAC) of the U.S. EPA Science Advisory Board (SAB) and its Multi-Agency Radiological Laboratory Analytical Protocols (MARLAP) Review Panel. The RAC and the MARLAP Review Panel will meet on the dates and times noted below. All times noted are Eastern Time. All meetings are open to the public, however, seating is limited and available on a first come basis. Important Notice: Documents that are the subject of SAB reviews are normally available from the originating EPA office and are not available from the SAB Office—information concerning availability of documents generated by the SAB and the relevant Program Office is included below.

1. Multi-Agency Radiological Laboratory Analytical Protocols (MARLAP) Review Panel—September 24-26, 2002 Meeting

The Multi-Agency Radiological Laboratory Analytical Protocols (MARLAP) Review Panel of the Radiation Advisory Committee (RAC) of the U.S. EPA Science Advisory Board (SAB) (also referred to as the “Review Panel,” or “Panel”) will meet on Tuesday, September 24, 2002 through Thursday, September 26, 2002 to conduct closure edits to its draft report in review of the Multi-Agency Radiological Laboratory Analytical Protocols (MARLAP) Manual. The MARLAP Review Panel previously met on April 8 (teleconference), and April 23-25, 2002 (see March 13, 2002, 67 FR 11328-11330), and June 27, 2002 (teleconference—see June 12, 2002, 67 FR 40288-40289). Please refer to the March 13, 2002 FR for the charge to the MARLAP Review Panel.

The meeting will begin on Tuesday September 24 at 9 am and adjourn no later than 5:30 pm that day. On Wednesday September 25, the meeting may begin at 8:30 am and adjourn no later than 5:30 pm. The MARLAP Review Panel may meet on the third and final day at 8:30 am and adjourn no later than 3:30 pm in the rooms assigned for “break-out” sessions. The meeting will begin in EPA Conference Room 1117A in the EPA East Headquarters Building, 1201 Constitution Avenue, NW., Washington, DC 20004. “Break-out” sessions will be held in this conference room and adjoining room 1117B and room 1150 as appropriate and if needed. For further information concerning the meeting, please contact the individuals listed at the end of this FR notice.

Purpose of the Meeting

The purpose of this public meeting is to confer on edits to the public draft report of the MARLAP Review Panel and to achieve closure on the report. The need for subsequent meetings of the MARLAP Review Panel will be discussed at this meeting and schedules of any future meetings to complete review of this topic will be discussed if closure is not achieved at this meeting. Information concerning any future public meetings will appear in Federal Register notices as appropriate. The public draft MARLAP Review Panel report is not yet available, but will be posted on the SAB Web site (http://www.epa.gov/sab) along with a proposed meeting agenda approximately 10 working days prior to the MARLAP and RAC closure meetings. Hard copies of the draft report will be available at the meeting.

See below for further information on availability of review materials and contact information.

2. Radiation Advisory Committee (RAC) Meeting—September 26, 2002

The Radiation Advisory Committee (RAC) of the U.S. EPA Science Advisory Board (SAB), the parent committee of the MARLAP Review Panel, will conduct a public meeting on Thursday, September 26, 2002. The meeting will begin on Thursday September 26 at 8:30 am and adjourn no later than 3:30 pm that day. There will be some overlap with the MARLAP Review Panel meeting and discussions on edits to the draft MARLAP report which started on September 24, 2002. The meeting will take place in the EPA East Conference Room 1117 in the EPA East Headquarters Building, 1201 Constitution Avenue, NW., Washington, DC 20004. “Break-out” sessions, if needed will be held in this conference room and adjoining room 1117B and room 1150 as appropriate by the MARLAP Review Panel. For further information concerning the meeting, please contact the individuals listed at the end of this FR notice.

Purpose of the Meeting

The purpose of this meeting is to: (1) Complete closure by the Radiation Advisory Committee (RAC) on the draft report generated by the MARLAP Review Panel, and (2) to discuss, plan and schedule proposed projects for the RAC or Panels to be formed for that purpose scheduled for Fiscal Year 2003.

Providing Oral or Written Comments at SAB Meetings

It is the policy of the EPA Science Advisory Board (SAB) to accept written public comments of any length, and to accommodate oral public comments whenever possible. The EPA SAB expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Interested parties should contact the Designated Federal Official (DFO) at least one week prior to the meeting in order to be placed on the public speaker list for the meeting. Speakers may attend the meeting and provide comment up to the meeting time. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the appropriate DFO at the address/contact information noted above in the following formats: one hard copy with original signature, and one electronic copy via e-mail (acceptable file format: Adobe Acrobat, WordPerfect, Word, or Rich Text files (in IBM-PC/Windows 95/98 format)). Those providing written comments and who attend the meeting are also asked to bring 35 copies of their comments for public distribution. Should comment be provided at the meeting and not in advance of the meeting, they should be in-hand to the DFO up to and immediately following the meeting. The SAB allows a grace period of 48 hours after adjournment of the public meeting to provide written comments supporting any verbal comments stated at the public meeting to be made a part of the public record.

FOR FURTHER INFORMATION CONTACT: Any member of the public wishing further information concerning these meetings or who wish to submit brief oral comments must contact Dr. K. Jack Kooyoomjian, Designated Federal Official, MARLAP, USEPA Science Advisory Board (1400A), Suite 6450, 1200 Pennsylvania Avenue, NW., Washington, DC 20460; telephone/voice mail at (202) 564-4557; fax at (202) 501-0582; or via e-mail at kooyoomjian.jack@epa.gov. Requests for oral comments must be in writing (e-mail, fax or mail) and received by Dr. Kooyoomjian no later than noon Eastern Time five business days prior to the meeting date (September 17, 2002 for the two meetings).

Members of the public desiring additional information about the meeting locations or the call-in number for the teleconference, must contact Ms. Mary Winston, Management Assistant, MARLAP, EPA Science Advisory Board (1400A), Suite 6450, U.S. EPA, 1200 Pennsylvania Avenue, NW., Washington, DC 20460; telephone/voice mail at (202) 564-4538; fax at (202) 501-0582; or via e-mail at winston.mary@epa.gov.

A copy of the draft agenda for each meeting will be posted on the SAB Web site (http://www.epa.gov/sab) (under the AGENDAS subheading) approximately 10 days before that meeting.

Availability of Review Materials

There are seven sponsoring federal agencies, commissions and departments (U.S. Environmental Protection Agency, U.S. EPA; U.S. Department of Energy, DOE; U.S. Nuclear Regulatory Commission, NRC; U.S. Department of Defense, DOD; U.S. National Institutes of Standards and Technology, NIST; U.S. Geologic Survey, USGS; and the U.S. Food and Drug Administration, FDA), and two state representatives (California and Kentucky) for the documents that are the subject of the review. The review document is available electronically at the following site http://www.eml.doe/marlap/. For questions and information pertaining to the review document, please contact Dr. Mary E. Clark, Assistant Director, Office of Radiation and Indoor Air (6601), U.S. Environmental Protection Agency, 1200 Pennsylvania Ave, NW., Washington, DC 20460; tel. (202) 564-9348, FAX (202) 565-2043, e-mail: clark.marye@epa.gov. Dr. Clark will refer you to the appropriate agency, commission or department contact for the particular issue of interest. The review document which is the subject of this review is cited as follows:

Multi-Agency Radiological Laboratory Analytical Protocols (MARLAP) Manual, Volume I: Chapters 1-9, and Volume II: Chapters 10-20 and Appendices, NUREG-1576; EPA 402-B-01-003; NTIS PB2001-106745, August 2001.

The above document and any comments received to date on a previous Federal Register solicitation (see 66 FR 45972-45974, August 31, 2001; see also http://www.epa.gov/rpdweb00/marlap/index.html) can be viewed at the U.S. Environmental Protection Agency, Office of Air and Radiation Docket (Docket Number A-2001-16), Room M1500, 401 M Street, SW., Washington, DC 20460, Tel. (202) 260-7548.

General Information

Additional information concerning the EPA Science Advisory Board, its structure, function, and composition, may be found on the SAB Web site (http://www.epa.gov/sab) and in The FY2001 Annual Report of the Staff Director which is available from the SAB Publications Staff at (202) 564-4533 or via fax at (202) 501-0256. Committee rosters, draft Agendas and meeting calendars are also located on our website.

Meeting Access

Individuals requiring special accommodation at testing, including wheelchair access to the conference room, should contact Dr. Kooyoomjian at least five business days prior to the meeting so that appropriate arrangements can be made.

Dated: August 29, 2002.
Vanessa T. Vu,
Director, EPA Science Advisory Board Staff Office.

[FR Doc. 02-22608 Filed 9-4-02; 8:45 am]

BILLING CODE 6560-50-P